DEPARTMENT OF AGRICULTURE

Forest Service

Wrangell-Petersburg Resource Advisory Committee

AGENCY: Forest Service, USDA.

ACTION: Notice of meeting.

SUMMARY: The Wrangell-Petersburg Resource Advisory Committee (RAC) will meet from 8:30 a.m. until 5:15 p.m. (or until the conclusion of public testimony) on Friday, October 24, from 8:30 a.m. until 5:15 p.m. (or until the conclusion of public testimony), Saturday, October 25, 2003, in Wrangell, Alaska. The purpose of this meeting is to review, discuss and potentially recommend for funding proposals received pursuant to Title II, Public Law 106-393, H.R. 2389, the Secure Rural Schools and Community Self-Determination Act of 2000, also called the “Payments to States” Act. Public testimony regarding the proposals will also be taken.

DATES: The meeting will be held commencing at 8:30 a.m. on Friday, October 24, through 5:15 p.m., Saturday, October 25, 2003.

ADDRESSES: The meeting will be held at Harding's Old Sourdough Lodge, 1104 Peninsula, Wrangell, Alaska.

FOR FURTHER INFORMATION CONTACT: Chip Weber, Wrangell District Ranger, P.O. Box 51, Wrangell, AK 99929, phone (907) 874-2323, email cweber@fs.fed.us, or Patty Grantham, Petersburg District Ranger, P.O. Box 1328, Petersburg, AK 99833, phone (907) 772-3871, email pagrantham@fs.fed.us. For further information on RAC history, operations, and the application process, a Web site is available at http://www.fs.fed.us/r10/ro/payments.

SUPPLEMENTARY INFORMATION: This is the first meeting of the RAC since April 2003 and the committee's summer hiatus. This meeting will focus on the review and discussion of proposals received by the RAC for funding under Title II of the Payments of States legislation (Pub. L. 106-393), particularly proposals that were of high interest to the committee, but lacked enough information for the committee to act. New information will be introduced concerning these proposals. No new proposals (initial reading) will be discussed at this meeting. The committee may make recommendations for project funding at this meeting. A field trip to review proposals proximate to the Wrangell, Alaska, area may take place. The meeting is open to the public. Should members of the public wish to participate in the potential field trip, please contact Patty Grantham or Chip Weber at the above noted addresses/emails/telephone numbers. Public input opportunity will be provided and individuals will have the opportunity to address the committee at that time.

Dated: September 4, 2003.
Olleke E. Rappe-Daniels,
Acting Forest Supervisor.

[FR Doc. 03-23369 Filed 9-12-03; 8:45 am]

BILLING CODE 3410-11-M